DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements (in scope of the parent award) for the 58 Community Mental Health Services Block Grant (MHBG) recipients funded in FY 2023. The total amount of available funding is $8,292,318. The 58 MHBG recipients are eligible to receive up to $142,971 for a total of $8,292,318. If all eligible MHBG recipients do not apply, remaining funds will be redistributed to applicants. The funding amount per recipient may be adjusted if any MHBG recipients decline the funding. These recipients have a project end date of September 30, 2024. The supplemental funding will be used for providing and/or obtaining training and technical assistance, or workforce development meetings and activities.

FOR FURTHER INFORMATION CONTACT: Asha Stanly, MHBG Program Coordinator, CMHS State and Consumer Protection Grants Branch, Substance Abuse and Mental Health Services Administration, 5600 Fishers Lane, Rockville, MD 20857, telephone 240-276-1845; email: Asha.Stanly@samhsa.hhs.gov.

SUPPLEMENTARY INFORMATION:

Funding Opportunity Title: FY 2023 Community Mental Health Services Block Grant

Assistance Listing Number: 93.958

Authority: The Community Mental Health Services Block Grant program is authorized under Section 1920 of the Public Health Service Act, as amended.

Justification: Eligibility for this supplemental funding is limited to the 58 MHBG recipients because it will be used to expand and enhance the training, technical assistance and workforce efforts of the recipients.

This is not a formal request for application. Assistance will only be provided to the 58 MHBG recipients funded in FY 2023 based on the receipt of a written statement from the SMHA confirming their interest in receiving these supplemental funds.

Dated: September 13, 2023.
Ann Ferrero,
Public Health Analyst.

[FR Doc. 2023-20176 Filed 9-18-23; 8:45 am]

BILLING CODE 4162-20-P